DEPARTMENT OF EDUCATION

Submission for OMB Review; Comment Request

AGENCY: Department of Education.

ACTION: Correction Notice.

SUMMARY: On August 23, 2012, the Department of Education published a 60-day public comment period notice in the Federal Register (Page 51021, Column 2). In the Summary section of the notice (Page 51021, Column 1), the changes were identified as being related to proposed regulatory changes. That identification is incorrect. This is an extension of a currently approved information collection request. The Director, Information Collection Clearance Division, Privacy, Information and Records Management Services, Office of Management, hereby issues a correction notice as required by the Paperwork Reduction Act of 1995.

Dated: September 25, 2012.
Darrin A. King,
Director, Information Collection Clearance Division, Privacy, Information and Records Management Services, Office of Management.

[FR Doc. 2012-24060 Filed 9-28-12; 8:45 am]

BILLING CODE 4000-01-P